DEPARTMENT OF AGRICULTURE

Tribal Advisory Committee

AGENCY: Office of Tribal Relations, USDA.

ACTION: Notice of public, hybrid meeting.

SUMMARY: Notice is hereby given, pursuant to the provisions of the rules and regulations of the US Department of Agriculture (USDA) and the Federal Advisory Committee Act (FACA), the Office of Tribal Relations is announcing a meeting of the Tribal Advisory Committee. The committee is authorized under the Agriculture Improvement Act of 2018 (the 2018 Farm Bill) and operates in compliance with the Federal Advisory Committee Act. The purpose of the committee is to provide advice and guidance to USDA on matters related to Tribal and Indian affairs.

DATES: An in-person meeting with a virtual webinar with a call-in option will be held on Monday, December 8, 2025, from 9:00 a.m. to approximately 5:00 p.m. Pacific Time (PT).

ADDRESSES: The meeting will be held during the Intertribal Agriculture Council's Annual Meeting at the Virgin Hotels; 4455 Paradise Rd, Las Vegas, NV 89169. Updates to the location, such as the meeting room, will be published on the Tribal Advisory Committee web page at https://www.usda.gov/about-usda/general-information/staff-offices/office-tribal-relations/tribal-consultations.

Webinar Participation Information: Registration to attend this meeting, including to provide oral public comments, is available at https://www.zoomgov.com/webinar/register/WN_Gw-vxUd3R0izscs2e53yQg#/registration.

Public Comments: The public may file written comments to the Tribal Advisory Committee by Thursday, December 4, 2025, at 11:59p.m. ET via email at Tribal.Relations@usda.gov. These comments will be included in the public record.

Members of the public are invited to join the Tribal Advisory Committee meeting to listen to deliberations each day and will be invited to give oral comments to the Committee from 2:00-3:30p.m. PT on December 8, 2025. Members of the public who request to give oral comments must arrive by 2:00p.m. PT and will be given no more than five (5) minutes to provide their comment.

Register for the Meeting: Registrants attending virtually must provide your name; title or position; Tribe or organization represented; whether you intend to provide public comment; and whether you require special accommodations.

Registration for virtual attendance can be found at https://www.zoomgov.com/webinar/register/WN_Gw-vxUd3R0izscs2e53yQg#/registration.

FOR FURTHER INFORMATION CONTACT: General information about the committee can also be found at https://www.usda.gov/tribalrelations/advisory-committee. Questions may be directed to Josiah Griffin, Designated Federal Officer, by phone at 202-205-2249 or via email at Tribal.Relations@usda.gov.

Individuals who use telecommunication devices for the deaf (TDD) may call the Federal Information Relay Service (FIRS) at 1-800-877-8339 between 8:00 a.m. and 8:00 p.m., Eastern Standard Time, Monday through Friday.

SUPPLEMENTARY INFORMATION: An agenda and more information for this meeting will be available at https://www.usda.gov/about-usda/general-information/staff-offices/office-tribal-relations/tribal-advisory-committee. The Secretary established the Committee pursuant to Section 12303 of the Agriculture Improvement Act of 2018 (7 U.S.C. 6921(b)) and will be managed in accordance with the provisions of the Federal Advisory Committee Act (FACA), as amended, 5 U.S.C. 10.

Meeting Agenda: Agenda items discussed may include, but are not limited to, welcome and introductions; administrative matters; administration priorities; and member deliberation on recommendations. The full agenda will be posted on the Tribal Advisory Committee web page (https://www.usda.gov/about-usda/general-information/staff-offices/office-tribal-relations/tribal-advisory-committee) at least 48 hours in advance of this meeting.

Availability of Materials for the Meeting: All written public comments will be compiled into a binder and available for review at the meeting. Duplicate comments from multiple individuals will appear as one comment, with a notation that multiple copies of the comment were received. Please visit https://www.usda.gov/about-usda/general-information/staff-offices/office-tribal-relations/tribal-advisory-committee to learn more about the agenda for or reports resulting from this meeting.

Please be advised that anyone calling into the Zoom teleconference system or participating in-person that is interested in providing public comment will be asked to provide their names, their title, and their tribal or organizational affiliations. Callers can expect to incur charges for calls they initiate over wireless lines, and the USDA will not refund any incurred charges.

Equal opportunity practices, in accordance with USDA policies, will be followed in all membership appointments to the Committee.

In accordance with Federal civil rights law and U.S. Department of Agriculture (USDA) civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the State or local Agency that administers the program or contact USDA through the Telecommunications Relay Service at 711 (voice and TTY). Additionally, program information may be made available in languages other than English.

This meeting notice is being published late due to additional administrative matters of the USDA Department.

Dated: November 24, 2025.
Cikena Reid,
USDA Committee Management Officer.

[FR Doc. 2025-21222 Filed 11-25-25; 8:45 am]

BILLING CODE 3420-AG-P